DEPARTMENT OF EDUCATION

Web-based Education Commission; Hearing

AGENCY: Office of Postsecondary Education, Education.

SUMMARY: This notice announces the next hearing of the Web-based Education Commission. Notice of this hearing is required under Section 10 (a)(2) of the Federal Advisory Committee Act. This document is intended to notify the general public of their opportunity to attend this hearing.

DATES: The hearing will be held on July 19-20, 2000. The session on July 19 is scheduled for 1 p.m.-5 p.m. The session on July 20 is scheduled for 9 a.m.-12 noon. Both sessions will be held on Capitol Hill in room 628 of the Dirksen Senate Office Building.

FOR FURTHER INFORMATION CONTACT: David Byer, Executive Director, Web-based Education Commission, U.S. Department of Education, 1990 K Street, NW, Washington, DC 20006-8533. Telephone: (202) 219-7045. Fax: (202) 502-7675.

Email: web_commission@ed.gov.

SUPPLEMENTARY INFORMATION: The Web-based Education Commission is authorized by Title VIII, Part J of the Higher Education Amendments of 1998, as amended by the Fiscal 2000 Appropriations Act for the Departments of Labor, Health, and Human Services, and Education, and Related Agencies. The Commission is required to conduct a thorough study to assess the critical pedagogical and policy issues affecting the creation and use of web-based and other technology-mediated content and learning strategies to transform and improve teaching and achievement at the K-12 and postsecondary education levels. The Commission must issue a final report to the President and the Congress, not later than 12 months after the first meeting of the Commission, which occurred November 16-17, 1999. The final report will contain a detailed statement of the Commission's findings and conclusions, as well as recommendations.

The July 19-20 hearing will cover a range of higher education technology-related issues. The hearing will examine online access, courses and programs, accreditation and assessment, distributive learning, costs and financial assistance, postsecondary education regulations, faculty issues, and the postsecondary education marketplace.

The hearing is open to the public. Records are kept of all Commission proceedings and are available for public inspection at the office of the Web-based Education Commission, Room 6131, 1990 K Street, NW, Washington, DC 20006-8533, from the hours of 9 a.m. to 5:30 p.m.

Assistance to Individuals With Disabilities: The hearing site is accessible to individuals with disabilities. Individuals who will need an auxiliary aid or service to participate in the hearing (e.g., interpreting services, assistive listening devices, or materials in alternative format) should contact the person listed in this notice at least two weeks before the scheduled hearing date. We will attempt to meet requests after this date, but cannot guarantee availability of the requested accommodation.

Electronic Access to This Document: You may view this document, as well as all other Department of Education documents published in the Federal Register, in text or Adobe Portable Document Format (PDF) on the Internet at either of the following sites:

http://ocfo.ed.gov/fedreg.htm

http://www.ed.gov/news/html

To use the PDF you must have the Adobe Acrobat Reader Program with Search, which is available free at either of the previously mentioned sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/indes.html.

A. Lee Fritschler,
Assistant Secretary, Office of Postsecondary Education.

[FR Doc. 00-17291 Filed 7-7-00; 8:45 am]

BILLING CODE 4000-01-P